SECURITIES AND EXCHANGE COMMISSION

[File No. 500-1]

In the Matter of: Corridor Communications Corp., International Cosmetics Marketing Co., PNV, Inc., Questron Technology, Inc. (n/k/a Quti Corp.), Tapistron International, Inc., Telscape International, Inc. (n/k/a Scapetel Debtor, Inc.), and Universal Beverages Holdings Corp.; Order of Suspension of Trading

March 3, 2010.

It appears to the Securities and Exchange Commission that there is a lack of current and accurate information concerning the securities of Corridor Communications Corp. because it has not filed any periodic reports since the period ended September 30, 2004.

It appears to the Securities and Exchange Commission that there is a lack of current and accurate information concerning the securities of International Cosmetics Marketing Co. because it has not filed any periodic reports since the period ended March 31, 2003.

It appears to the Securities and Exchange Commission that there is a lack of current and accurate information concerning the securities of PNV, Inc. because it has not filed any periodic reports since the period ended September 30, 2000.

It appears to the Securities and Exchange Commission that there is a lack of current and accurate information concerning the securities of Questron Technology, Inc. (n/k/a Quti Corp.) because it has not filed any periodic reports since the period ended September 30, 2001.

It appears to the Securities and Exchange Commission that there is a lack of current and accurate information concerning the securities of Tapistron International, Inc. because it has not filed any periodic reports since the period ended April 30, 2001.

It appears to the Securities and Exchange Commission that there is a lack of current and accurate information concerning the securities of Telscape International, Inc. (n/k/a Scapetel Debtor, Inc.) because it has not filed any periodic reports since the period ended December 31, 2000.

It appears to the Securities and Exchange Commission that there is a lack of current and accurate information concerning the securities of Universal Beverages Holdings Corp. because it has not filed any periodic reports since the period ended September 30, 2003.

The Commission is of the opinion that the public interest and the protection of investors require a suspension of trading in the securities of the above-listed companies. Therefore, it is ordered, pursuant to Section 12(k) of the Securities Exchange Act of 1934, that trading in the securities of the above-listed companies is suspended for the period from 9:30 a.m. EST on March 3, 2010, through 11:59 p.m. EDT on March 16, 2010.

By the Commission.
Elizabeth M. Murphy,
Secretary.

[FR Doc. 2010-4802 Filed 3-3-10; 4:15 pm]

BILLING CODE 8011-01-P